DEPARTMENT OF ENERGY

Office of Energy Efficiency and Renewable Energy

Proposed Agency Information Collection

AGENCY: Office of Energy Efficiency and Renewable Energy, U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be filed by July 23, 2012. If you anticipate difficulty in submitting comments within that period, contact the person listed in ADDRESSES as soon as possible.

ADDRESSES: Written comments may be sent to Jamie Vernon or by fax at 202-586-9260, or by email at Jamie.Vernon@ee.doe.gov.

FOR FURTHER INFORMATION CONTACT: Requests for additional information or copies of the information collection instrument and instructions should be directed to Jamie Vernon, Jamie.Vernon@ee.doe.gov.

SUPPLEMENTARY INFORMATION: This information collection request contains: (1) OMB No.: 1910-5164; (2) Information Collection Request Title: Customer Electricity Data Access and Control Questionnaire; (3) Type of Request: Renewal with changes; (4) Purpose: The U.S. Department of Energy (DOE) Office of Energy Efficiency and Renewable Energy (EERE) has developed and launched a new consumer-focused Web site (http://openei.org/utilityaccess) with the capability to map how and what electricity use data utilities provide to their customers. An online questionnaire device captures and publishes the necessary information as a series of web-based maps upon completion by electricity providers. Each electric utility has the opportunity to fill out a web-based questionnaire that will automatically generate the informational maps. Consumers can visit the maps and Web site to learn about data access offered by their utility and how to use energy more efficiently. Generation of such maps requires DOE to collect information from electricity providers about data access and sharing services offered to their customers. DOE is requesting a 3-year approval to continue to collect and report this information using an improved collection instrument; (5) Annual Estimated Number of Total Responses: 3,261; (6) Annual Estimated Number of Burden Hours: 761; (7) Annual Estimated Reporting and Recordkeeping Cost Burden: $0.

Statutory Authority: Section 13(b) of the Federal Energy Administration Act of 1974 (FEA Act), as amended, codified at 15 U.S.C. 772(b) and Section 1301 of the Energy Independence and Security Act of 2007 (EISA), as amended, codified at 42 U.S.C. 17381.

Issued in Washington, DC, on May 17, 2012.
Carla Frisch,
Acting Director of Analysis, Office of Energy Efficiency and Renewable Energy, U.S. Department of Energy.

[FR Doc. 2012-12610 Filed 5-23-12; 8:45 am]

BILLING CODE 6450-01-P